DEPARTMENT OF THE INTERIOR

National Park Service

[NPS-WASO-NAGPRA-NPS0037239; PPWOCRADN0-PCU00RP14.R50000]

Notice of Intent To Repatriate Cultural Items: Longyear Museum of Anthropology, Colgate University, Hamilton, NY

AGENCY: National Park Service, Interior.

ACTION: Notice.

SUMMARY: In accordance with the Native American Graves Protection and Repatriation Act (NAGPRA), the Longyear Museum of Anthropology (LMA) intends to repatriate certain cultural items that meet the definition of unassociated funerary objects, sacred objects, or objects of cultural patrimony and that have a cultural affiliation with the Indian Tribes or Native Hawaiian organizations in this notice. The cultural items were removed from Broome, Jefferson, Onondaga, Oswego, and Tioga County, NY.

DATES: Repatriation of the cultural items in this notice may occur on or after February 15, 2024.

ADDRESSES: Kelsey Olney-Wall, Repatriation Manager, Longyear Museum of Anthropology, Colgate University, 13 Oak Drive, Hamilton, NY 13346, telephone (315) 228-7677, email kolneywall@colgate.edu.

SUPPLEMENTARY INFORMATION: This notice is published as part of the National Park Service's administrative responsibilities under NAGPRA. The determinations in this notice are the sole responsibility of the LMA. The National Park Service is not responsible for the determinations in this notice. Additional information on the determinations in this notice, including the results of consultation, can be found in the summary or related records held by the LMA.

Description

Sometime between 1950 and 1965, 17 cultural items were removed from Broome, Onondaga, Oswego, and Jefferson Counties, NY, by avocational archeologist Walter “Bud” Bennett, during his excavations at Brown (noted as Keefe and Whitford), Center Village, Oberlander Site 1, Saunders, and Watson Farm. The eight objects of cultural patrimony from the Brown Site, are one smoothing stone, one hammerstone, two stone knives, three stone projectile points, and one stone flake. The one object of cultural patrimony from Center Village is a stone projectile point. The one object of cultural patrimony from the Oberlander Site 1 is a stone projectile point. The one object of cultural patrimony from Saunders is a stone projectile point. The one sacred object from Watson Farm is a pot sherd, and the five objects of cultural patrimony are three stone projectile points, one worked stone, and one stone cobble. The collection was donated to the museum in 1965 by the estate of Walter “Bud” Bennett, a local amateur archeologist from Poolville, NY.

Sometime between 1924 and 1957, 649 cultural items were removed from Jefferson, Onondaga, and Oswego Counties, N.Y. by Herbert Bigford Sr., during his excavations at Barnes (a.k.a. Oran), Comstock, Delphi Falls, Durfee, Harrington Farm, Indian Hill, Meather House, Nolee, Pierrepont Manor, Pompey Center, Pratt Falls, Selkirk, and Towles. The 13 sacred objects from the Barnes site include one pipe stem, 11 bone beads (seven bird, three mammal, and one worked mammal bone), and one pottery sherd with an effigy face. The 56 objects of cultural patrimony include 27 bone awls (19 worked mammal bone, one baculum, one dog fibula, five bird bone, and one beaver ulna), three bone needles (two worked mammal bone, one bird bone), one worked antler, two punches of worked mammal bone, four dog canines, one worked mammal fishhook, five beaver teeth (one incisor, four other), two pieces of worked mammal bone, one chisel, one stone projectile point, and nine stone discs. The 91 unassociated funerary objects from the Comstock site include 90 wampum beads and one comb fragment. The 32 sacred objects include 26 pot sherds (12 rim sherds, 8 pot sherds, and six sherds with effigy faces), one pipe, and five pipe fragments. The 49 objects of cultural patrimony include seven awls (six of worked mammal bone and one deer metatarsal), two bones needles of mammal bone, one grooved mammal bone, three miscellaneous mammal bone fragments, one mammal bone tube, 11 antler fragments, two phalanges (one elk and one deer/sheep/goat), one fox tibia, 13 celts, one worked stone, one charred wooden square, one glass cassock button, one metal hook, one metal sheet, one metal ring, and two metal nails. The one object of cultural patrimony from the Delphi Falls site is a faunal bone awl. The five sacred objects from the Durfee site include five pipes (four ceramic, one kaolin). The 54 sacred objects from the Harrington Farm site include 54 pottery sherds. The one object of cultural patrimony from the Indian Hill site is a worked mammal bone awl. The 37 sacred objects from the Meather House site include 32 pottery sherds and five pipe fragments. The one object of cultural patrimony is a raccoon jaw (with tooth). The 101 sacred objects from the Nolee site include 81 pottery sherds and 20 pipe fragments. The three objects of cultural patrimony include one worked mammal bone awl, one bear canine, and one lead musket ball. The 17 sacred objects from the Pierrepont Manor site are 14 pottery sherds and three pipe fragments. The two objects of cultural patrimony are two stone discs. The two sacred objects from the Pompey Center site are two bone beads (one elk/cow and one deer). The two objects of cultural patrimony are one worked antler punch and one mammal rib awl. The one sacred object from the Pratt Falls site is a bird bone bead. The five objects of cultural patrimony are two bone awls (one dog fibula and one bear fibula), two elk canines, and one ground slate. The three sacred objects from the Selkirk site are three pottery sherds. The one object of cultural patrimony is a stone projectile point. The 89 sacred objects from the Towles site are one polished bird bone bead, two glass beads, 57 pottery sherds, five pottery discs, 22 pipe fragments, and two pieces of miscellaneous copper. The 83 objects of cultural patrimony are two bear canines, one beaver incisor, one worked antler, one catfish dorsal spine awl (or needle), four deer phalanges, one deer phalanx, two mammal bone needles, three worked mammal bone awls, one depressed lump of pottery, one clamshell, one shell button, two stone knives, 29 stone projectile points, two stone drills, one quartz rock, 13 stone scrapers, three stone celts, three worked stones, one rounded stone, three stone discs, two perforated stones, one net sinker, one stone gouge or celt, one metal bracelet, two musket balls, and one metal bell. In 1959, Colgate University purchased the Bigford collection from Winona F. Bigford.

At an unknown date, one cultural item was removed from Onondaga County, NY, by an unknown individual from an unknown site in Pompey. The one object of cultural patrimony is a hammerstone. It is unknown how and when this object entered the museum collection.

By 1962, 14 cultural items were removed from Broome County, NY, by John Hagen during his excavations at the Castle Creek Site. The 14 objects of cultural patrimony are 14 worked stones. It is unknown how and when Mr. Hagen acquired these belongings. The museum acquired this collection as a gift from John Hagen, of Hudson Falls, NY, in 1962.

Sometime between 1930 and 1943, 106 cultural items were removed from Broome County, Onondaga County, Oswego County, and Tioga County, NY, by Mortimer Cooley Howe during his excavations at D. Bocke's Farm and Harris Farm, Pratt Falls, and unknown sites in Amber, Baldwinsville, Binghamton, Brewerton, Elbridge, Marcellus, Phoenix, Skaneateles, Spafford, Stiles Station, and Tyler Hollow N.Y. The five objects of cultural patrimony from an unknown site in Amber are four stone projectile points and one stone gouge. The one object of cultural patrimony from an unknown site in Baldwinsville is a stone celt. The one object of cultural patrimony from an unknown site in Binghamton is a stone knife. The 12 objects of cultural patrimony from an unknown site in Brewerton are five stone projectile points, one stone knife, and six net sinkers. The one object of cultural patrimony from the D. Bockes Farm site is a stone projectile point. The three objects of cultural patrimony from an unknown site in Elbridge are one celt and two projectile points. The two objects of cultural patrimony from the Harris Farm site are two stone projectile points. The one object of cultural patrimony from an unknown site in Marcellus is a stone projectile point. The eight objects of cultural patrimony from an unknown site in Phoenix are three stone knives and five stone pestles. The four unassociated funerary objects from the Pratt Falls site are four mammal bone comb fragments. The 10 sacred objects are one pipe stem and nine metal fragments/brass kettle pieces. The 31 objects of cultural patrimony are eight worked mammal bone awls, four antler punches, three faunal bone punches, one faunal bone needle, three stone tools, one stone halfted thumbnail scraper, 10 stone scrapers, and one mirror fragment. The 18 objects of cultural patrimony from an unknown site in Skaneateles are 18 stone projectile points. The seven objects of cultural patrimony from an unknown site in Spafford are six stone projectile points and one stone knife. The one object of cultural patrimony from an unknown site in Stiles Station is a stone knife. The one object of cultural patrimony from an unknown site in Tyler Hollow is a stone projectile point. The items in the collection were gathered by Mortimer Cooley Howe while he was a student at Colgate and the University of Michigan. The Howe collection was donated to Colgate University, posthumously, by his father Burton Howe in 1947.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, and expert opinion.

Determinations

Pursuant to NAGPRA and its implementing regulations, and after consultation with the appropriate Indian Tribes and Native Hawaiian organizations, the LMA has determined that:

• The 95 cultural items described above are reasonably believed to have been placed with or near individual human remains at the time of death or later as part of the death rite or ceremony and are believed, by a preponderance of the evidence, to have been removed from a specific burial site of a Native American individual.

• The 365 cultural items described above are specific ceremonial objects needed by traditional Native American religious leaders for the practice of traditional Native American religions by their present-day adherents.

• The 327 cultural items described above have ongoing historical, traditional, or cultural importance central to the Native American group or culture itself, rather than property owned by an individual.

• There is a relationship of shared group identity that can be reasonably traced between the cultural items and the Onondaga Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 15, 2024. If competing requests for repatriation are received, the LMA must determine the most appropriate requestor prior to repatriation. Requests for joint repatriation of the cultural items are considered a single request and not competing requests. The LMA is responsible for sending a copy of this notice to the Indian Tribes and Native Hawaiian organizations identified in this notice.

Authority: Native American Graves Protection and Repatriation Act, 25 U.S.C. 3003, and the implementing regulations, 43 CFR 10.8, 10.10, and 10.14.

Dated: January 9, 2024.
Melanie O'Brien,
Manager, National NAGPRA Program.

[FR Doc. 2024-00609 Filed 1-12-24; 8:45 am]

BILLING CODE 4312-52-P